OFFICE OF THE UNITED STATES TRADE REPRESENTATIVE

Notice of Meeting of the Industry Sector Advisory Committee on Small and Minority Business (ISAC-14)

AGENCY: Office of the United States Trade Representative.

ACTION: Notice of meeting for an open teleconference.

SUMMARY: The Industry Sector Advisory Committee on Small and Minority Business (ISAC-14) will hold a meeting for an open teleconference on August 21, 2001, from 11:00 a.m. to 12:30 p.m. The meeting will be opened to the public from 11:00 a.m. to 12:30 p.m.

DATES: The meeting is scheduled for August 21, 2001, unless otherwise notified.

ADDRESSES: The meeting will be held in Conference Room 2015B, of the Department of Commerce, located at 14th Street between Pennsylvania and Constitution Avenues, NW., Washington, DC.

FOR FURTHER INFORMATION CONTACT: Millie Sjoberg or Pam Wilbur, (principal contacts), at (202) 482-4792, Department of Commerce, 14th Street and Constitution Avenue, NW, Washington, DC 20230 or myself on (202) 395-6120.

SUPPLEMENTARY INFORMATION: During the meeting the following topics will be addressed.

• Secretary of Commerce Evan's proposal to the OECD for a c-business facilitation initiative and ISAC-14 input into the upcoming WTO meeting in Doha.

Christina Sevilla,
Acting Assistant U.S. Trade Representative for Intergovernmental Affairs and Public Liaison.

[FR Doc. 01-20508 Filed 8-14-01; 8:45 am]

BILLING CODE 3190-01-M